DEPARTMENT OF HEALTH AND HUMAN SERVICES

National Institutes of Health

Center for Scientific Review; Amended Notice of Meeting

Notice is hereby given of a change in the meeting of the Arthritis, Connective Tissue and Skin Study Section, February 17-18, 2022, 9:00 a.m. to 7:00 p.m., which was published in the Federal Register on January 19, 2022, FR DOC 2022-00962, 87 FR 2878.

This notice is being amended to change the meeting date from February 17-18, 2022, 9:00 a.m. to 7:00 p.m. to February 16-18, 2022, 12:00 p.m. to 7:00 p.m. The meeting place remains the same. The meeting is closed to the public.

Dated: January 28, 2022.
Melanie J. Pantoja,
Program Analyst, Office of Federal Advisory Committee Policy.

[FR Doc. 2022-02201 Filed 2-2-22; 8:45 am]

BILLING CODE 4140-01-P